ENVIRONMENTAL PROTECTION AGENCY

[ER-FRL-6656-8]

Environmental Impact Statements; Notice of Availability

Responsible Agency: Office of Federal Activities, General Information (202) 564-7167 or http://www.epa.gov/compliance/nepa/.

Weekly receipt of Environmental Impact Statements filed October 11, 2004, through October 15, 2004, pursuant to 40 CFR 1506.9.

EIS No. 040486, Final Supplement, BLM, NV, Clark County Regional Flood Control Master Plan, Updated and Replaced the Original 1991 FEIS, Facilities Construction and Operation, Right-of-Way Approval and U.S. Army COE Section 404 Permit, Clark County, NV, Wait Period Ends: November 22, 2004, Contact: Adrian Garcia (702) 515-5089.

EIS No. 040487, Final EIS, AFS, OR, Crooked River National Grassland Vegetation Management/Grazing, Vegetation Treatments and Grazing Disposition, Ochoco National Forest, Jefferson County, OR, Wait Period Ends: November 22, 2004, Contact: Steve Gibson (541) 416-6440. This document is available on the Internet at: http://www.fs.fed.us/r6/centraloregon.

EIS No. 040488, Final EIS, EPA, RI, MA, Rhode Island Region Long-Term Dredged Material Disposal Site Evaluation Project, Designation of One or More Long-Term Ocean Disposal Sites, RI and MA, Wait Period Ends: November 22, 2004, Contact: Olga Guza (617) 918-1542.

EIS No. 040489, Final EIS, COE, FL, Central and Southern Florida Project, Comprehensive Everglades Restoration Plan, Aquifer Storage and Recovery (ASR) Pilot Operation, Aquifer Storage and Recovery Pilot Project, To Test the Feasibility Utilizing ASR Technology for Water Storage at Seven Well Sites, Right-of-Way and NPDES Permits, Several Counties, Wait Period Ends: November 22, 2004, Contact: Rebecca Weiss (904) 232-1577.

EIS No. 040490, Final EIS, FRC, WA, ID, Box Canyon Hydroelectric Project, (FERC Project No. 2042-013), New License Application for an existing 72-megawatt (Mw) Hydroelectric Project, Public Utility District (PUD) No. 1, Pend Oreille River, Pend Oreille County, WA and Bonner County, ID, Wait Period Ends: November 22, 2004, Contact: Jon Cofrancesco (202) 502-8951.

EIS No. 040491, Draft EIS, NIH, MA, National Emerging Infectious Diseases Laboratories, Construction of a National Biocontainment Laboratory, BioSquare Research Park, Boston University Medical Center Campus, Boston, MA, Comment Period Ends: January 3, 2005, Contact: Valerie Nottingham (301) 480-8056.

EIS No. 040492, Final EIS, NPS, MI, Pictured Rocks National Lakeshore, General Management Plan and Wilderness Study, Implementation, Lake Superior, Munising and Grand Marais, Alger County, MI, Wait Period Ends: November 22, 2004, Contact: Karen Gustin (906) 387-2607.

EIS No. 040493, Draft Supplement, STB, MT, Tongue River Railroad Construction and Operation of the Proposed Western Alignment Tongue River III Southernmost Portion of the 41-mile Ashland to Decker Alignment, Rosebud and Bighorn Counties, MT, Comment Period Ends: December 06, 2004, Contact: Kenneth Blodgett (202) 565-1554.

EIS No. 040494, Final EIS, FAA, IN, Gary/Chicago International Airport Master Plan Development Including Runway Safety Area Enhancement/Extension of Runway 12-30, Funding, Lake County, IN, Wait Period Ends: November 22, 2004, Contact: Prescott C. Snyder (847) 294-7538.

Amended Notices

EIS No. 040204, Draft EIS, FHW, NJ, Cross Harbor Freight Movement Project, Improve the Movements of Goods Throughout Northern New Jersey and Southern New York, Funding, Kings, Richmond, Queens, New York Counties, NJ, Comment Period: November 30, 2004, Contact: Richard Backlund (212) 668-2205. Published FR-05-07-04 Review Period Reopened, From 09-30-2004 to 11-30-2004.

EIS No. 040322, Draft EIS, BLM, CA, Clear Creek Resource Management Area Plan Amendment, Hollister Resource Management Plan, Implement the Decision Made in the 1999 CCMA ROD, San Benito and Fresno Counties, CA, Comment Period Ends: November 15, 2004, Contact: Robert Beehler (831) 630-5000. Revision of Federal Register notice published on 7/16/2004: CEQ Comment Period ending on 10/15/2004 has been extended to 11/15/2004.

EIS No. 040338, Draft EIS, BLM, UT, Price Field Office Resource Management Plan, Implementation, Proposed Areas of Critical Environmental Concerns Suitable Wild and Scenic River Segments and Special Recreation Management Area, Carbon and Emery Counties, UT, Comment Period Ends: November 29, 2004, Contact: Floyd Johnson (435) 636-3600. Revision of Federal Register notice published on 7/23/04: CEQ Comment Period ending 10/15/2004 has been extended to 11/29/2004.

EIS No. 040463, Final EIS, COE, MS, IA, MO, IL, MN, WI, Programmatic EIS—Upper Mississippi River and Illinois Waterway System Navigation Feasibility Study (UMR-IWW), Addressing Navigation Improvement Planning and Ecological Restoration Needs, MS, IL, IA, MN, MO, WI, Wait Period Ends: November 12, 2004, Contact: Denny Lunderberg (309) 794-5632. Revision of Federal Register notice published on 10/08/2004: CEQ Comment Period ending 11/08/2004 corrected 11/12/2004.

EIS No. 040465, Draft EIS, NPS, AZ, Colorado River Management Plan, To Provide a Wilderness-Type River Experience for Visitors, General Management Plan, Grand Canyon National Park, Colorado River, Coconino County, AZ, Comment Period Ends: January 6, 2005, Contact: Rick Ernenwein (928) 779-6279. Revision of Federal Register notice published on 10/8/2004: CEQ Comment Period ending 01/06/2004 corrected to 01/06/2005.

Dated: October 19, 2004.
Ken Mittelholtz,
Environmental Protection Specialist, Office of Federal Activities.

[FR Doc. 04-23690 Filed 10-21-04; 8:45 am]

BILLING CODE 6560-50-P